DELAWARE RIVER BASIN COMMISSION

Notice of Commission Meeting and Public Hearing

Notice is hereby given that the Delaware River Basin Commission (“DRBC” or “Commission”) will hold an informal conference followed by a public hearing on Wednesday, March 19, 2003. The hearing will be part of the Commission's regular business meeting. Both the conference session and business meeting are open to the public and will be held at the Commission's offices at 25 State Police Drive, West Trenton, New Jersey.

The conference among the commissioners and staff will begin at 9:30 a.m. Topics of discussion include: the DRBC Water Resources Program for 2003; a progress report on development of the basinwide plan and new DRBC comprehensive plan; a discussion about the Delaware River Basin Conservation Reserve Enhancement Program; a proposal to extend Docket D-77-20 CP (Revision 5) (Amended) relating to New York City reservoir releases to protect tailwater fisheries; a proposal to amend the Commission's project review fees; a report on the coordinated EPA, state and DRBC approach to the staged PCB TMDL for the Delaware Estuary; and a discussion on proposed revision of the Commission's water quality standards for PCBs.

The subjects of the public hearing to be held during the 1 p.m. business meeting include, in addition to the dockets listed below, a resolution extending Docket D-77-20 CP (Revision 5) (Amended); a resolution amending Docket D-77-110 CP by the addition of a “Designated Unit” to Table A (Revised); a resolution adopting the 2003 Water Resources Program; and a resolution to approve the Commission's budgets for the fiscal year ending June 30, 2004.

1. New Jersey-American Water Company D-85-2 CP Renewal 3. A renewal of a ground water withdrawal project to continue withdrawal of 51.8 million gallons (mg)/30 days to supply the applicant's public water distribution system from existing Wells Nos. 3, 4 and 5 in the Kittatinny Formation. The project is located in Washington Township, Warren County, New Jersey.

2. Borough of Roosevelt D-85-8 CP Renewal 2. A renewal of a ground water withdrawal project to supply up to 7 mg/30 days of water to the applicant's public water distribution system from existing Wells Nos. 3 and 4 in the Raritan Formation. No increase in the maximum allocation is proposed. The project is located in Roosevelt Borough, Monmouth County, New Jersey.

3. Netcong Borough D-2000-41 CP. A ground water withdrawal project to supply up to 17.8 mg/30 days of water to the applicant's public water distribution system from existing Wells Nos. 1A and 2 in glacial deposits, and Wells Nos. 5 and 6 in the Gneiss Formation, and to limit the withdrawal from all wells to 17.8 mg/30 days. The project is located in Netcong Borough and Roxbury Township, Morris County, New Jersey.

4. Hanah Country Inn D-2002-7 (Revised). A project revision to improve and expand a 9,000 gallons per day (gpd) septic treatment system to treat 13,830 gpd at the applicant's 900 acre lodging facility located in the Town of Middletown, Delaware County, New York, within the drainage area to DRBC's Special Protection Waters. The applicant had originally planned to provide a new subsurface discharge leach field, but now plans to provide advanced treatment followed by discharge to a new percolation trench. The site is located on both sides of State Route 30, between County Route 38 (Arkville Road) and East Hubbell Road. The project is in the East Branch Delaware River Watershed, upstream from Pepacton Reservoir.

5. Municipal Authority of the Township of Westfall D-2002-23 CP. An upgrade and expansion of a 0.095 mgd advanced secondary sewage treatment plant (STP) to provide tertiary treatment of 0.3 mgd, using a sequencing batch reactor process. The proposed expansion is needed to serve residential and commercial development in Westfall Township, Pike County, Pennsylvania. The plant, known locally as the Hunts Landing STP, is located on the west bank of the Delaware River, just south of the Route 209 and I-84 interchange in Westfall Township. The plant was formerly owned by Delaware Valley Utilities, Inc., who constructed the facility in 1986 and expanded it in 1991. The plant uses an activated sludge treatment process and will be phased out of operation. A new outfall line will be constructed and STP effluent will be discharged via submerged diffusers to the Delaware River in the Special Protection Waters of Water Quality Zone 1C.

6. New Jersey Department of Corrections D-2002-31 CP. An expansion of a 0.769 mgd STP to process 1.3 mgd while continuing to provide advanced secondary treatment. The expanded plant will continue to serve the A. C. Wagner Youth Correctional Facility and a portion of Chesterfield Township. The plant is located just less than one mile northeast of the intersection of Ward Avenue and Hogback Road in Chesterfield Township, Burlington County, New Jersey. STP effluent will continue to be discharged to Crosswicks Creek through the existing outfall diffuser. The project expansion is needed to eliminate malfunctioning septic systems serving Crosswicks Village and to provide treatment capacity to serve a planned 350 bed minimum security facility.

7. Strausser Enterprises, Inc. D-2002-43. A ground water withdrawal project to supply up to 9.31 mg/30 days of water to the applicant's golf course irrigation system from new Wells Nos. ITW 1, 2, 3 and 4 in the Allentown Formation. The project is located in the Delaware River Watershed in Forks Township, Northampton County, Pennsylvania.

8. North Coventry Water Authority D-2002-47 CP. A transfer of up to 0.76 mgd of potable water from Pottstown Borough Authority (PBA) to serve customers in North Coventry and a portion of East Coventry Townships, both in Chester County, Pennsylvania. Most of these customers are currently served by PBA, which will transfer to North Coventry Water Authority its service area south of the Schuylkill River. PBA has adequate capacity at its 12 mgd filter plant, located at the confluence of the Schuylkill River and Manatawny Creek, to meet the applicant's potable water demand. The applicant currently operates two wells in the Southeastern Pennsylvania Ground Water Protected Area to provide customers in North Coventry Township with up to 16,500 gpd.

In addition to the public hearing items, the Commission will address the following at its 1 p.m. business meeting: Minutes of the January 29, 2003 business meeting; announcements; a report on Basin hydrologic conditions; a report by the executive director; a report by the Commission's general counsel; a resolution re-authorizing the Water Quality Advisory Committee; and a resolution authorizing the executive director to enter into an agreement with the University of Delaware to acquire the expertise of faculty and staff in developing inputs for carbon parameters in the water quality model for the Delaware Estuary.

Draft dockets and other items scheduled for public hearing on March 19, 2003 are posted on the Commission's Web site, http://www.drbc.net, where they can be accessed through the Notice of Commission Meeting and Public Hearing. Additional documents relating to the dockets and other items may be examined at the Commission's offices. Please contact Thomas L. Brand at 609-883-9500 ext. 221 with any docket-related questions.

Persons wishing to testify at this hearing are requested to register in advance with the Commission Secretary at 609-883-9500 ext. 203. Individuals in need of an accommodation as provided for in the Americans With Disabilities Act who wish to attend the hearing should contact the Commission Secretary directly at 609-883-9500 ext. 203 or through the Telecommunications Relay Services (TRS) at 711, to discuss how the Commission may accommodate your needs.

Dated: March 4, 2003.
Pamela M. Bush,
Commission Secretary.

[FR Doc. 03-5574 Filed 3-7-03; 8:45 am]

BILLING CODE 6360-01-P